DEPARTMENT OF ENERGY

Federal Energy Regulatory Commission

[Project Nos. 1933-116, 1934-065]

Southern California Edison Company; San Bernardino Valley Municipal Water District; Notice of Application of Transfer of Licenses and Soliciting Comments, Motions To Intervene, and Protests

On September 20, 2024, Southern California Edison Company (transferor) and San Bernardino Valley Municipal Water District (transferee) filed an application with the Federal Energy Regulatory Commission (FERC or Commission) to transfer the licenses for the 6.3-megawatt Santa Ana River 1 & 3 Hydroelectric Project No. 1933 (Santa Ana Project) and the 3.0-megawatt Mill Creek ⅔ Hydroelectric Project No. 1934 (Mill Creek Project). The Santa Ana Project, located on the Santa Ana River, and the Mill Creek Project, located on Mill Creek and its tributary Mountain Home Creek, are both situated in San Bernardino County, California, and occupy federal land within the San Bernardino National Forest.

Pursuant to 16 U.S.C. 801, the applicants seek Commission approval to transfer the licenses for the Santa Ana Project and the Mill Creek Project from the transferor to the transferee. Upon approval, the transferee will be required by the Commission to comply with all the requirements of the licenses.

Applicants Contacts

For Transferor: Wayne Allen, Principal Manager, Southern California Edison, 2244 Walnut Grove Ave., Rosemead, CA 91770, wayne.allen@sce.com and Jordan von Almen, Principal Manager, Southern California Edison, 2244 Walnut Grove Ave., Rosemead, CA 91770, jordan.vonalmen@sce.com.

For Transferee: Heather P. Dyer, CEO/General Manager, San Bernardino Valley Municipal Water District, 380 East Vanderbilt Way, San Bernardino, CA 92408, heatherd@sbvmwd.com.

FERC Contact: Woohee Choi, Phone: (202) 502-6336, Email: Woohee.Choi@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY).

In lieu of electronic filing, you may submit a paper copy. Submissions sent via U.S. Postal Service must be addressed to, Debbie-Anne A. Reese, Secretary, Federal Energy Regulatory Commission, 888 First Street NE, Room 1A, Washington, DC 20426. Submissions sent via any other carrier must be addressed to, Debbie-Anne A. Reese, Secretary, Federal Energy Regulatory Commission, 12225 Wilkins Avenue, Rockville, Maryland 20852. The first page of any filing should include docket numbers P-1933-116 and P-1934-065. Comments emailed to Commission staff are not considered part of the Commission record.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 2, 2025.
Debbie-Anne A. Reese,
Secretary.

[FR Doc. 2025-00231 Filed 1-7-25; 8:45 am]

BILLING CODE 6717-01-P